DEPARTMENT OF TRANSPORTATION

Federal Aviation Administration

14 CFR Part 39

[Docket No. FAA-2009-0510; Directorate Identifier 2009-NE-16-AD; Amendment 39-15948; AD 2009-13-09]

RIN 2120-AA64

Airworthiness Directives; Microturbo SA Saphir 2 Model 016 Auxiliary Power Units

AGENCY: Federal Aviation Administration (FAA), DOT.

ACTION: Final rule; request for comments.

SUMMARY: We are adopting a new airworthiness directive (AD) for the products listed above, on which the exhaust thermal insulation has been replaced since January 1, 1995. This AD results from mandatory continuing airworthiness information (MCAI) issued by an aviation authority of another country to identify and correct an unsafe condition on an aviation product. The MCAI describes the unsafe condition as:

Due to a lapse in manufacturing quality control, the exhaust thermal insulation of certain Microturbo SA Saphir 2 model 016 auxiliary power units (APUs) may not meet the approved design standard, and may fail in service. The affected part numbers are 016-33-01 (Inner Thermal Insulation), 016-33-02 (Outer Thermal Insulation), and 016-33-03 (EGT Sensor Thermal Insulation). This condition, if not corrected, could result in rapid deterioration and physical breakdown of the exhaust thermal insulation, leading to loss of insulation efficiency and ultimately exposure of the hot APU exhaust section and risk of fire.

We are issuing this AD to prevent rapid deterioration and physical breakdown of the exhaust thermal insulation, leading to loss of insulation efficiency and ultimately exposure of the hot APU exhaust section and risk of fire.

DATES: This AD becomes effective July 14, 2009

We must receive comments on this AD by July 29, 2009

The Director of the Federal Register approved the incorporation by reference of Microturbo SA Alert Service Bulletin No. 49-11A76, Revision 1, dated, September 6, 2007, listed in the AD as of July 14, 2009

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Michael Schwetz, Aerospace Engineer, Boston Aircraft Certification Office, FAA, Engine and Propeller Directorate, 12 New England Executive Park, Burlington, MA 01803; e-mail: michaelschwetz@faa.gov; telephone (781) 238-7761; fax (781) 238-7170.

SUPPLEMENTARY INFORMATION:

Discussion

The European Aviation Safety Agency (EASA), which is the Technical Agent for the Member States of the European Community, has issued EASA Airworthiness Directive 2009-0100, dated May 4, 2009 (referred to after this as “the MCAI”), to correct an unsafe condition for the specified products.] The MCAI states:

Due to a lapse in manufacturing quality control, the exhaust thermal insulation of certain Microturbo SA Saphir 2 model 016 APUs may not meet the approved design standard, and may fail in service. The affected part numbers are 016-33-01 (Inner Thermal Insulation), 016-33-02 (Outer Thermal Insulation), and 016-33-03 (EGT Sensor Thermal Insulation). This condition, if not corrected, could result in rapid deterioration and physical breakdown of the exhaust thermal insulation, leading to loss of insulation efficiency and ultimately exposure of the hot APU exhaust section and risk of fire.

You may obtain further information by examining the MCAI in the AD docket.

Relevant Service Information

Microturbo SA has issued Alert Service Bulletin No. 49-11A76, Revision 1, dated September 6, 2007. The actions described in this service information are intended to correct the unsafe condition identified in the MCAI.

FAA's Determination and Requirements of This AD

This product has been approved by the aviation authority of France and is approved for operation in the United States. Pursuant to our bilateral agreement with France, they have notified us of the unsafe condition described in the MCAI and service information referenced above. We are issuing this AD because we evaluated all information provided by EASA and determined the unsafe condition exists and is likely to exist or develop on other products of the same type design. This AD requires initial and repetitive visual inspections of certain exhaust thermal insulation for signs of deterioration on Microturbo SA Saphir 2 model 016 APUs. This AD also requires replacement of the affected exhaust thermal insulation as mandatory terminating action to the repetitive visual inspections.

FAA's Determination of the Effective Date

An unsafe condition exists that requires the immediate adoption of this AD. The FAA has found that the risk to the flying public justifies waiving notice and comment prior to adoption of this rule because of the potential for rapid deterioration and physical breakdown of the exhaust thermal insulation, leading to loss of insulation efficiency and ultimately exposure of the hot APU exhaust section and risk of fire. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0510; Directorate Identifier 2009-NE-16-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-13-09 Microturbo SA: Amendment 39-15948.; Docket No. FAA-2009-0510; Directorate Identifier 2009-NE-16-AD.

Effective Date

(a) This airworthiness directive (AD) becomes effective July 14, 2009.

Affected ADs

(b) None.

Applicability

(c) This AD applies to Microturbo SA Saphir 2 model 016 auxiliary power units (APUs) on which the exhaust thermal insulation has been replaced since January 1, 1995. These APUs are installed on, but not limited to, Dassault Falcon 20 airplanes.

Reason

(d) European Aviation Safety Agency (EASA) AD No. 2009-0100, dated May 4, 2009, states:

Due to a lapse in manufacturing quality control, the exhaust thermal insulation of certain Microturbo SA Saphir 2 model 016 APUs may not meet the approved design standard, and may fail in service. The affected part numbers are 016-33-01 (Inner Thermal Insulation), 016-33-02 (Outer Thermal Insulation), and 016-33-03 (EGT Sensor Thermal Insulation). This condition, if not corrected, could result in rapid deterioration and physical breakdown of the exhaust thermal insulation, leading to loss of insulation efficiency and ultimately exposure of the hot APU exhaust section and risk of fire.

We are issuing this AD to prevent rapid deterioration and physical breakdown of the exhaust thermal insulation, leading to loss of insulation efficiency and ultimately exposure of the hot APU exhaust section and risk of fire.

Actions and Compliance

(e) Unless already done, do the following actions.

Initial and Repetitive Inspections

(1) Within 10 APU operating hours from the effective date of this AD, visually inspect the exhaust thermal insulation for signs of deterioration. Repeat the inspection at intervals not exceeding 10 operating APU hours.

(2) If deterioration is detected, replace the exhaust thermal insulation before operating the APU again. Use paragraphs 2.A. through 2.C.(4)(b) of Microturbo SA Alert Service Bulletin No. 49-11A76, Revision 1, dated September 6, 2007, to do the replacement.

Mandatory Terminating Action

(3) As mandatory terminating action to the repetitive visual inspections required by this AD, replace the exhaust thermal insulation within 50 APU operating hours from the effective date of this AD. Use paragraphs 2.A. through 2.C.(4)(b) of Microturbo SA Alert Service Bulletin No. 49-11A76, Revision 1, dated September 6, 2007, to do the replacement.

FAA AD Differences

(f) None.

Alternative Methods of Compliance (AMOCs)

(g) The Manager, Boston Aircraft Certification Office, FAA, has the authority to approve AMOCs for this AD, if requested using the procedures found in 14 CFR 39.19.

Related Information

(h) Refer to MCAI EASA Airworthiness Directive 2009-0100, dated May 4, 2009, for related information.

(i) Contact Michael Schwetz, Aerospace Engineer, Boston Aircraft Certification Office, FAA, Engine and Propeller Directorate, 12 New England Executive Park, Burlington, MA 01803; e-mail: michaelschwetz@faa.gov; telephone (781) 238-7761; fax (781) 238-7170, for more information about this AD.

Material Incorporated by Reference

(j) You must use Microturbo SA Alert Service Bulletin No. 49-11A76, Revision 1, dated September 6, 2007, to do the actions required by this AD, unless the AD specifies otherwise.

(1) The Director of the Federal Register approved the incorporation by reference of this service information under 5 U.S.C. 552(a) and 1 CFR part 51.

(2) For service information identified in this AD, contact Microturbo SA, Technical Publications Department, 8, Chemin du pont de Rupe, BP 62089, 31019 Toulouse Cedex 2, France; telephone (33) (0)5 61 37 55 00; fax (33) (0)5 61 70 74 45.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on June 17, 2009.
Carlos Pestana,
Acting Manager, Engine and Propeller Directorate, Aircraft Certification Service.

[FR Doc. E9-14809 Filed 6-26-09; 8:45 am]

BILLING CODE 4910-13-P